DEPARTMENT OF TRANSPORTATION

Federal Aviation Administration

14 CFR Part 39

[Docket No. 2001-NM-292-AD]

RIN 2120-AA64

Airworthiness Directives; Empresa Brasileira de Aeronautica S.A. (EMBRAER) Model EMB-135 and EMB-145 Series Airplanes

AGENCY: Federal Aviation Administration, DOT.

ACTION: Notice of proposed rulemaking (NPRM).

SUMMARY: This document proposes the supersedure of an existing airworthiness directive (AD), applicable to certain EMBRAER Model EMB-135 and EMB-145 series airplanes, that currently requires revising the airplane flight manual and eventual disconnection of the precooler differential pressure switches. This action would expand the applicability of the existing AD. This action also would require a one-time inspection of those additional airplanes to ensure the disconnection and insulation of the electrical connectors of certain precooler differential pressure switches located in the left and right pylons; and disconnection and insulation of the connectors, if necessary. This action is necessary to prevent incorrect operation of the precooler differential pressure switches, which could result in inappropriate automatic shutoff of the engine bleed valve, and consequent inability to restart a failed engine using cross-bleed from the other engine or possible failure of the anti-ice system. This action is also necessary to ensure that the flightcrew is advised of the procedures necessary to restart an engine in flight using the auxiliary power unit. This action is intended to address the identified unsafe condition.

DATES: Comments must be received by August 15, 2003.

ADDRESSES: Submit comments in triplicate to the Federal Aviation Administration (FAA), Transport Airplane Directorate, ANM-114, Attention: Rules Docket No. 2001-NM-292-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-292-AD” in the subject line and need not be submitted in triplicate. Comments sent via the Internet as attached electronic files must be formatted in Microsoft Word 97 for Windows or ASCII text.

The service information referenced in the proposed rule may be obtained from Empresa Brasileira de Aeronautica S.A. (EMBRAER), P.O. Box 343—CEP 12.225, Sao Jose dos Campos—SP, Brazil. This information may be examined at the FAA, Transport Airplane Directorate, 1601 Lind Avenue, SW., Renton, Washington.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-292-AD.” The postcard will be date stamped and returned to the commenter.

Availability of NPRMs

Any person may obtain a copy of this NPRM by submitting a request to the FAA, Transport Airplane Directorate, ANM-114, Attention: Rules Docket No. 2001-NM-292-AD, 1601 Lind Avenue, SW., Renton, Washington 98055-4056.

Discussion

On June 20, 2000, the FAA issued AD 2000-13-02, amendment 39-11801 (65 FR 39541, June 27, 2000), applicable to certain EMBRAER Model EMB-135 and EMB-145 series airplanes, to require revising the airplane flight manual (AFM) and eventual disconnection of the precooler differential pressure switches. That action was prompted by a report indicating that activation of the precooler differential pressure switches may cause inappropriate automatic shutoff of the engine bleed valve on airplanes on which EMBRAER Service Bulletin 145-36-0017, dated March 28, 2000, or the production equivalent, has been accomplished. The requirements of that AD are intended to prevent incorrect operation of the precooler differential pressure switches, which could result in inappropriate automatic shutoff of the engine bleed valve, and consequent inability to restart a failed engine using cross-bleed from the other engine or possible failure of the anti-ice system. The requirements of that AD are also intended to ensure that the flightcrew is advised of the procedures necessary to restart an engine in flight using the auxiliary power unit (APU).

Actions Since Issuance of Previous Rule

Since the issuance of that AD, the Departmento de Aviacao Civil (DAC), which is the airworthiness authority for Brazil, issued Brazilian airworthiness directive 2000-04-01R2, dated May 28, 2001, in order to assure the continued airworthiness of these airplanes in Brazil. That Brazilian airworthiness directive supersedes Brazilian airworthiness directive 2000-04-01R1 to add airplanes to the applicability section and to require an inspection of the affected area for the additional airplanes.

Explanation of Relevant Service Information

EMBRAER has issued Alert Service Bulletin 145-36-A018, Change 01, dated October 20, 2000. The effectivity section of the alert service bulletin includes additional airplanes. The alert service bulletin also describes procedures for a one-time visual inspection of those additional airplanes to ensure the disconnection and insulation of the electrical connectors of certain precooler differential pressure switches located in the left and right pylons; and disconnection and insulation of the connectors, if necessary. The DAC classified this alert service bulletin as mandatory.

FAA's Conclusions

These airplane models are manufactured in Brazil and are type certificated for operation in the United States under the provisions of section 21.29 of the Federal Aviation Regulations (14 CFR 21.29) and the applicable bilateral airworthiness agreement. Pursuant to this bilateral airworthiness agreement, the DAC has kept the FAA informed of the situation described above. The FAA has examined the findings of the DAC, reviewed all available information, and determined that AD action is necessary for products of this type design that are certificated for operation in the United States.

Explanation of Requirements of Proposed Rule

Since an unsafe condition has been identified that is likely to exist or develop on other airplanes of the same type design registered in the United States, the proposed AD would supersede AD 2000-13-02 to continue to require revising the AFM and eventual disconnection of the precooler differential pressure switches. The proposed AD would add airplanes to the applicability. The proposed AD also would require a one-time visual inspection of those additional airplanes to ensure the disconnection and insulation of the electrical connectors of certain precooler differential pressure switches located in the left and right pylons; and disconnection and insulation of the connectors, if necessary. Certain actions would be required to be accomplished in accordance with the alert service bulletin described previously.

Differences Between the Proposed AD and the Brazilian Airworthiness Directive

Operators should note that, for certain airplanes, this proposed AD would require, within 24 hours after the effective date of this proposed AD, revising the Limitations and Abnormal Procedures sections of the AFM as described previously. The Brazilian airworthiness directive does not require revising the AFM and states that dispatch with the APU inoperative is prohibited immediately upon receipt of their airworthiness directive 2000-04-01R2, until the accomplishment of the actions specified in EMBRAER Alert Service Bulletin 145-36A018, Change 01. The Brazilian airworthiness directive provides some guidance for engine starting assisted by the APU but does not provide the full details of this restart procedure. The FAA finds that the revision of the Limitations section described previously is necessary to mitigate the effects of incorrect operation of the precooler differential pressure switches until the switches are disconnected. The FAA also finds that replacement of the existing “Engine Airstart” procedure in the Abnormal Procedures section of the AFM is necessary to ensure that the procedure is clear and that the flightcrew is properly advised of how to restart a failed engine using the APU.

Changes to 14 CFR Part 39/Effect on the Proposed AD

On July 10, 2002, the FAA issued a new version of 14 CFR part 39 (67 FR 47997, July 22, 2002), which governs the FAA's airworthiness directives system. The regulation now includes material that relates to altered products, special flight permits, and alternative methods of compliance (AMOC). Because we have now included this material in part 39, only the office authorized to approve AMOCs is identified in each individual AD. Therefore, Note 1 and paragraph (e) of AD 2000-13-02 are not included in this proposed AD, and paragraph (d) of that AD has been revised in this proposed AD.

Cost Impact

There are approximately 365 Model EMB-135 and EMB-145 series airplanes of U.S. registry that would be affected by this proposed AD.

The AFM revision that is currently required by AD 2000-13-02 takes approximately 1 work hour per airplane to accomplish, at an average labor rate of $60 per work hour. Based on these figures, the cost impact of the currently required AFM revision on U.S. operators is estimated to be $60 per airplane.

The disconnection of switches that is currently required by AD 2000-13-02 takes approximately 1 work hour per airplane to accomplish, at an average labor rate of $60 per work hour. Based on these figures, the cost impact of the currently required disconnection of switches on U.S. operators is estimated to be $60 per airplane.

The new AFM revision that is proposed in this AD would take approximately 1 work hour per airplane to accomplish, at an average labor rate of $60 per work hour. Based on these figures, the cost impact of the proposed new AFM revision on U.S. operators is estimated to be $21,900, or $60 per airplane.

The inspection that is proposed in this AD would take approximately 1 work hour per airplane to accomplish, at an average labor rate of $60 per work hour. Based on these figures, the cost impact of the proposed inspection on U.S. operators is estimated to be $21,900, or $60 per airplane.

The disconnection of switches that is proposed by this AD would take approximately 2 work hours per airplane to accomplish, at an average labor rate of $60 per work hour. Based on these figures, the cost impact of the proposed modification on U.S. operators is estimated to be $43,800, or $120 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11801 (65 FR 39541, June 27, 2000), and by adding a new airworthiness directive (AD), to read as follows:

Empresa Brasileira de Aeronautica S.A. (EMBRAER): Docket 2001-NM-292-AD. Supersedes AD 2000-13-02, Amendment 39-11801.

Applicability: Model EMB-135 and EMB-145 series airplanes; as identified in EMBRAER Alert Service Bulletin 145-36-A018, Change 01, dated October 20, 2000; certificated in any category.

Compliance: Required as indicated, unless accomplished previously.

To prevent incorrect operation of the precooler differential pressure switches, which could result in inappropriate automatic shutoff of the engine bleed valve, and consequent inability to perform engine cross-bleed restarts or possible failure of the anti-ice system; and to ensure that the flightcrew is advised of proper procedures to restart an engine in flight using the auxiliary power unit; accomplish the following:

Restatement of Requirements of AD 2000-13-02

Revision to Airplane Flight Manual (AFM): Limitations Section

(a) For airplanes identified in AD 2000-13-02, amendment 39-11801: Within 24 hours after July 3, 2000 (the effective date of AD 2000-13-02, amendment 39-11801), revise the Limitations section of the AFM to include the following statements (this may be accomplished by inserting a copy of this AD into the AFM; following accomplishment of paragraph (c) of this AD, the revisions required by this paragraph may be removed from the AFM):

“THE APU MUST BE OPERATIVE FOR EVERY DEPARTURE. SINGLE BLEED OPERATION IN ICING CONDITIONS IS PROHIBITED.”

Revision to AFM: Abnormal Procedures Section

(b) For airplanes identified in AD 2000-13-02, amendment 39-11801: Within 24 hours after July 3, 2000, replace the existing “ENGINE AIRSTART” procedure in the Abnormal Procedures section of the AFM with the following procedures (this may be accomplished by inserting a copy of this AD into the AFM):

“ENGINE AIRSTART
Affected engine:
One Electric Fuel Pump (A or B) | ON
Ignition | AUTO
Start/Stop Selector | STOP
Engine Bleed | CLOSE
Thrust Lever | IDLE
Airspeed and Altitude | REFER TO AIRSTART ENVELOPE
Perform an assisted start or windmilling, as required.
CAUTION: IN ICING CONDITIONS USE CROSSBLEED START ONLY, TO AVOID LOSS OF ANTI-ICE SYSTEM PERFORMANCE.
Assisted Start:
Crossbleed Start:
N2 (operating engine) | ABOVE 80%
Crossbleed | AUTO OR OPEN
Engine Bleed (operating engine | OPEN
Start/Stop Selector | START, THEN RUN
Engine Indication | MONITOR
Check ITT and N2 rising. Observe limits. Check ignition and fuel flow indication at 10% N2.
APU bleed start:
APU | START
APU Bleed | OPEN
Crossbleed | AUTO
Engine Bleed (operating engine) | CLOSE
Start/Stop Selector | START, THEN RUN
Engine Indication | MONITOR
Check ITT and N2 rising. Observe limits. Check ignition and fuel flow indication at 10% N2.
Windmilling Start:
Airspeed | ABOVE 260 KIAS
Minimum N2 | 12%
Start/Stop Selector | START, THEN RUN
ITT and N2 | MONITOR
Note:—Windmilling start will be slower than an assisted start.
—Windmilling start with N2 above 30% and increasing, the loss of altitude may be minimized, by reducing airspeed.
—Start will be faster if ITT is below 320 °C.
After Start:
Affected Engine Bleed | AS REQUIRED
Crossbleed | AUTO
APU Bleed | AS REQUIRED”

Disconnection of the Precooler Differential Pressure Switches

(c) For airplanes identified in AD 2000-13-02, amendment 39-11801: Within 100 flight hours after July 3, 2000, disconnect the electrical connector from the precooler differential pressure switches in the left and right engine pylons, in accordance with EMBRAER Alert Service Bulletin 145-36-A018, dated April 14, 2000; or Change 01, dated October 20, 2000. Following accomplishment of this paragraph, the AFM revision required by paragraph (a) of this AD may be removed from the AFM.

New Requirements of This AD

Revision to AFM: Limitations Section

(d) For airplanes having serial numbers 145245, 145250 through 145255 inclusive, 145258 through 145262 inclusive, 145264 through 145324 inclusive, 145326, and 145327: Within 24 hours after the effective date of this AD, revise the Limitations section of the AFM to include the following statements (this may be accomplished by inserting a copy of this AD into the AFM; following accomplishment of paragraph (f) of this AD, the revisions required by this paragraph may be removed from the AFM):

``THE APU MUST BE OPERATIVE FOR EVERY DEPARTURE. SINGLE BLEED OPERATION IN ICING CONDITIONS IS PROHIBITED.''

Revision to AFM: Abnormal Procedures Section

(e) For airplanes having serial numbers 145245, 145250 through 145255 inclusive, 145258 through 145262 inclusive, 145264 through 145324 inclusive, 145326, and 145327: Within 24 hours after the effective date of this AD, replace the existing “ENGINE AIRSTART” procedure in the Abnormal Procedures section of the AFM with the following procedures (this may be accomplished by inserting a copy of this AD into the AFM):

“ENGINE AIRSTART
Affected engine:
One Electric Fuel Pump (A or B) | ON
Ignition | AUTO
Start/Stop Selector | STOP
Engine Bleed | CLOSE
Thrust Lever | IDLE
Airspeed and Altitude | REFER TO AIRSTART ENVELOPE
Perform an assisted start or windmilling, as required.
CAUTION: IN ICING CONDITIONS USE CROSSBLEED START ONLY, TO AVOID LOSS OF ANTI-ICE SYSTEM PERFORMANCE.
Assisted Start:
Crossbleed Start:
N2 (operating engine) | ABOVE 80%
Crossbleed | AUTO OR OPEN
Engine Bleed (operating engine) | OPEN
Start/Stop Selector | START, THEN RUN
Engine Indication | MONITOR
Check ITT and N2 rising. Observe limits. Check ignition and fuel flow indication at 10% N2.
APU bleed start:
APU | START
APU Bleed | OPEN
Crossbleed | AUTO
Engine Bleed (operating engine) | CLOSE
Start/Stop Selector | START, THEN RUN
Engine Indication | MONITOR
Check ITT and N2 rising. Observe limits. Check ignition and fuel flow indication at 10% N2.
Windmilling Start:
Airspeed | ABOVE 260 KIAS
Minimum N2 | 12%
Start/Stop Selector | START, THEN RUN
ITT and N2 | MONITOR
Note:—Windmilling start will be slower than an assisted start.
—Windmilling start with N2 above 30% and increasing, the loss of altitude may be minimized, by reducing airspeed.
—Start will be faster if ITT is below 320 °C.
After Start:
Affected Engine Bleed | AS REQUIRED
Crossbleed | AUTO
APU Bleed | AS REQUIRED”

Inspection of Electrical Connectors and Follow-on Actions

(f) For airplanes having serial numbers 145245, 145250 through 145255 inclusive, 145258 through 145262 inclusive, 145264 through 145324 inclusive, 145326, and 145327: Within 100 flight hours after the effective date of this AD, perform a one-time general visual inspection to ensure that electrical connector P1904 located in the right pylon is insulated and disconnected from precooler differential pressure switch S0354, and to ensure that electrical connector P1904 or P2252 located in the left pylon is insulated and disconnected from precooler differential pressure switch S0355, per the Accomplishment Instructions of EMBRAER Alert Service Bulletin 145-36-A018, Change 01, dated October 20, 2000. Following accomplishment of paragraph (f)(1), (f)(2), or (f)(3) of this AD, as applicable, the AFM revision required by paragraph (d) of this AD may be removed from the AFM.

(1) If all connectors are disconnected and insulated, no further action is required by this paragraph.

(2) If any connector is connected to a precooler differential pressure switch, prior to further flight, disconnect and insulate the connector per the Accomplishment Instructions of the alert service bulletin.

(3) If any connector is disconnected from a precooler differential pressure switch, but is not insulated, prior to further flight, insulate the connector per the Accomplishment Instruction of the alert service bulletin.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(g) Actions accomplished before the effective date of this AD, per the Accomplishment Instructions of EMBRAER Alert Service Bulletin 145-36-A018, dated April 14, 2000; or EMBRAER Service Bulletin 145-36-0018, dated November 5, 2002; are considered acceptable for compliance with the actions specified in paragraph (f) of this AD.

Alternative Methods of Compliance

(h) In accordance with 14 CFR 39.19, the Manager, International Branch, ANM-116, FAA, is authorized to approve alternative methods of compliance for this AD.

Note 2: The subject of this AD is addressed in Brazilian airworthiness directive 2000-04-01R2, dated May 28, 2001.

Issued in Renton, Washington, on July 10, 2003.
Ali Bahrami,
Acting Manager, Transport Airplane Directorate, Aircraft Certification Service.

[FR Doc. 03-17951 Filed 7-15-03; 8:45 am]

BILLING CODE 4910-13-P